DEPARTMENT OF AGRICULTURE

Forest Service

Curlew National Grassland Draft EIS and Resource Management Plan Caribou-Targhee National Forest, Oneida County, ID

AGENCY: Forest Service, USDA.

ACTION: Extension of the comment period on the Draft Environmental Impact Statement.

SUMMARY: On October 20, 2000 the Notice of Availability of the Draft EIS for the Curlew National Grassland Resource Management Plan was published in the Federal Register. Many interested parties have requested that the comment period be extended so they can provide more substantive, researched comments. We have agreed to extend the comment period on the Draft EIS for an additional 60 days.

DATES: Comments on the Draft EIS will be accepted through March 30, 2001.

ADDRESSES: Send correspondence to Jerry B. Reese, Forest Supervisor, 250 South Fourth Avenue, Ste. 172, Pocatello, Idaho 83201.

FOR FURTHER INFORMATION CONTACT: Questions concerning this comment period extension, the proposed action and the EIS should be directed to Linda Ward, Team Leader, Caribou-Targhee National Forest, Telephone: (208) 236-7500.

Dated: December 8, 2000.
Jerry B. Reese,
Forest Supervisor, Caribou-Targhee National Forest, Intermountain Region, USDA Forest Service.

[FR Doc. 00-33414 Filed 12-29-00; 8:45 am]

BILLING CODE 3410-11-M